DEPARTMENT OF HOUSING AND URBAN DEVELOPMENT

24 CFR Part 3280

[Docket No. FR-6149-C-03]

RIN 2502-AJ49

Manufactured Home Construction and Safety Standards; Correction

AGENCY: Office of General Counsel, HUD.

ACTION: Final rule; correction.

SUMMARY: HUD is correcting a final rule published in the Federal Register on January 12, 2021, entitled, “Manufactured Home Construction and Safety Standards”. The final rule amends the Federal Manufactured Home Construction and Safety Standards (the Construction and Safety Standards) by adopting the third set of recommendations made to HUD by the Manufactured Housing Consensus Committee (MHCC), as modified by HUD.

DATES: Effective March 15, 2021.

FOR FURTHER INFORMATION CONTACT: Aaron Santa Anna, Associate General Counsel for Legislation and Regulations, Department of Housing and Urban Development, 451 7th Street SW, Room 10238, Washington, DC 20410; telephone number 202-708-1793 (this is not a toll-free number). Persons with hearing or speech impairments may access this number through TTY by calling the toll-free Federal Information Relay Service at 800-877-8339 (this is a toll-free number).

SUPPLEMENTARY INFORMATION: On January 12, 2021 (86 FR 2496) (FR Doc. 2020-28227), HUD issued a final rule amending the Federal Manufactured Home Construction and Safety Standards (the Construction and Safety Standards) by adopting the third set of recommendations made to HUD by the Manufactured Housing Consensus Committee (MHCC), as modified by HUD. The adoption of the third set of recommendations revised the Manufactured Housing Construction and Safety Standards codified in title 24 of the Code of Federal Regulations, including those at part 3280. This notice corrects two inadvertent errors, one in an amendatory instruction, and one in the regulatory text.

In amendatory instruction 16, for 24 CFR part 3280, on page 2520 second column, the amendatory instruction states, “In § 3280.305, revise paragraphs (a), (e)(1), (g)(6), and (h)(5) to read as follows:” The amendatory instruction for paragraphs (a), (e)(1), and (g)(6) are correct. However, paragraph (h) only contains paragraphs (1)-(4) and there is no paragraph (h)(5) to revise.

Second, § 3280.305, paragraph (h)(5) incorrectly states, “. . . provided that the requirements in paragraphs (h)(5)(i) through (v) of this section are met.” Paragraph (h)(5) contains only four paragraphs (i) through (iv).

Corrections

In the Federal Register of January 12, 2021, in FR Doc. 2020-28227, the following corrections are made:

§ 3280.305 [Corrected]

1. On page 2520, in the second column, in part 3280, in amendment 16, the instruction “In § 3280.305, revise paragraphs (a), (e)(1), (g)(6), and (h)(5) to read as follows:” is corrected to read, “In § 3280.305, revise paragraphs (a), (e)(1), and (g)(6) and add paragraph (h)(5) to read as follows:”.

2. On page 2520, in the third column, in § 3280.305, in paragraph (h)(5) introductory text, the paragraph reference “(h)(5)(i) through (v)” is corrected to read “(h)(5)(i) through (iv)”.

Aaron Santa Anna,
Associate General Counsel for Legislation and Regulations.

[FR Doc. 2021-03155 Filed 2-19-21; 8:45 am]

BILLING CODE 4210-67-P